NUCLEAR REGULATORY COMMISSION

10 CFR Part 51

[Docket No. PRM-51-12]

State of California; Supplement to a Petition for Rulemaking

AGENCY: Nuclear Regulatory Commission.

ACTION: Supplemental petition for rulemaking; notice of receipt.

SUMMARY: The Nuclear Regulatory Commission (NRC) has received a supplement to a petition for rulemaking filed with the Commission by Edmund G. Brown, Jr., Attorney General for the State of California. The NRC docketed the original petition dated March 16, 2007, as PRM-51-12. In this supplement to PRM-51-12, the petitioner provides clarification to the original PRM. This document is being noticed for information only and not for public comment.

ADDRESSES: For a copy of the original petition PRM-51-12 and the supplement to PRM-51-12, write to Michael T. Lesar, Chief, Rulemaking, Directives, and Editing Branch, Division of Administrative Services, Office of Administration, U.S. Nuclear Regulatory Commission, Washington, DC 20555-0001.

PRM-51-12 and the supplement to PRM-51-12 may be inspected and copied for a fee at the NRC Public Document Room (PDR), 11555 Rockville Pike, Public File Area O1F21, Rockville, Maryland. Copies of comments received on PRM-51-12 are available through the NRC's Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS contact the NRC's PDR Reference staff at 1-800-397-4209, 301-415-4737, or by e-mail to pdr@nrc.gov.

FOR FURTHER INFORMATION CONTACT: Michael T. Lesar, Chief, Rulemaking, Directives, and Editing Branch, Division of Administrative Services, Office of Administration, U.S. Nuclear Regulatory Commission, Washington, DC 20555-0001, Telephone: 301-415-7163, or toll free: 800-368-5642.

SUPPLEMENTARY INFORMATION: The NRC received a petition for rulemaking dated March 16, 2007, submitted by Edmund G. Brown, Jr., Attorney General for the State of California (petitioner). The petition was docketed as PRM-51-12. The notice of receipt of PRM-51-12 was published on May 14, 2007 (72 FR 27068). On September 19, 2007, the petitioner submitted a document characterized as an “Amended Petition” for rulemaking to clarify PRM-51-12.

In the original petition, the petitioner requested that the NRC rescind its regulations at 10 CFR Part 51 that declare the potential environmental effects of the approval, construction, and operation of high-density pool storage of spent nuclear fuel, are not and cannot be significant for purposes of the National Environmental Policy Act (NEPA) and NEPA analysis; adopt and issue a generic determination that approval of such storage at a nuclear power plant or any other facility does constitute a major federal action that may have a significant effect on the human environment; and order that no NRC licensing decision that approves high-density pool storage of spent nuclear fuel at a nuclear power plant or other storage facility may issue without the prior adoption and certification of an environmental impact statement (EIS) that complies with NEPA in all respects, including full identification, analysis, and disclosure of the potential environmental effects of such storage, including the potential for accidental or deliberately caused release of radioactive products to the environment, whether by accident or through acts of terrorism, as well as full and adequate discussion of potential mitigation for such effects, and full discussion of an adequate array or alternatives to the proposed storage project.

In the September 19, 2007 document, the petitioner clarifies that the State of California seeks to have the NRC rescind all regulations found in 10 CFR Part 51, that imply, find or determine that the potential environmental effects of high-density pool storage of spent nuclear fuel are not significant for purposes of NEPA and NEPA analysis. The petitioner also includes requests for a generic determination and order. These requests are identical to the requests made in the March 16, 2007 petition and are as described previously.

The NRC does not consider the September 19, 2007 document to be substantively different from PRM-51-12. Therefore, the NRC will consider the September 19, 2007 document to be a supplement to PRM-51-12 and will include it in the docket for PRM-51-12. The NRC is publishing this notice for information only and not for public comment. The public comment period for PRM-51-12 closed on July 30, 2007.

Dated at Rockville, Maryland, this 6th day of November 2007.
For the Nuclear Regulatory Commission.
Andrew L. Bates,
Acting Secretary of the Commission.

[FR Doc. E7-22213 Filed 11-13-07; 8:45 am]

BILLING CODE 7590-01-P